DEPARTMENT OF DEFENSE

Department of the Air Force

Privacy Act of 1974; System of Records

AGENCY: Department of the Air Force, DOD.

ACTION: Notice to alter systems of records.

SUMMARY: The Department of the Air Force is proposing to alter a system of records notice in its existing inventory of record systems subject to the Privacy Act of 1974, (5 U.S.C. 552a), as amended. The alteration revises the purposes for releasing records under the routine uses.

DATES: This proposed action will be effective without further notice on April 15, 2002 unless comments are received which result in a contrary determination.

ADDRESSES: Send comments to the Air Force Privacy Act Manager, AF-CIO/P, 1155 Air Force Pentagon, Washington, DC 20330-1155.

FOR FURTHER INFORMATION CONTACT: Mrs. Anne Rollins at (703) 601-4043 or DSN 329-4043.

SUPPLEMENTARY INFORMATION: The Department of the Air Force systems of records notices subject to the Privacy Act of 1974, (5 U.S.C. 552a), as amended, have been published in the Federal Register and are available from the address above.

The proposed system reports, as required by 5 U.S.C. 552a(r) of the Privacy Act of 1974, as amended, was submitted on March 5, 2002, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: March 8, 2002.
L.M. Bynum,
Alternate OSD Federal Register Liaison Officer, Department of Defense.

F051 AFJA D

System name:

Patent Infringement and Litigation Records (June 11, 1997, 62 FR 31793).

Changes:

* * * * *

Categories of records in the system:

Delete last sentence.

Authority for maintenance of the system:

Add to entry ‘Air Force Instruction 51-301, Intellectual Property—Patents, Patent Related Matters, Trademarks and Copyrights.’

* * * * *

Routine uses of records maintained in the system, including categories of users and the purposes of such uses:

Delete entry and replace with ‘In addition to those disclosures generally permitted under 5 U.S.C. 552a(b) of the Privacy Act, these records or information contained therein may specifically be disclosed outside the DoD as a routine use pursuant to 5 U.S.C. 552a(b)(3) as follows:

To the U.S. Patent Office to the extent such disclosures are necessary for the processing and verification of patent applications.

To the Department of Justice for the purpose of asserting and defending patent infringement action.

The DoD ‘Blanket Routine Uses’ published at the beginning of the Air Force's compilation of systems of records notices apply to this system.’

* * * * *

Storage:

Delete entry and replace with ‘Case files are maintained in file folders. Correspondence and other data generated by the agency may be maintained in computer files. Information from case files may be extracted and entered into a database used to store general information for management purposes.’

Safeguards:

Add to entry ‘Those records in computer storage devices are protected by computer system software.’

* * * * *

F051 AFJA D

System name:

Patent Infringement and Litigation Records.

System location:

Air Force Legal Services Agency, Commercial Litigation Division (AFLSA/JACN), 1501 Wilson Blvd, Suite 606, Arlington, VA 22209-2403, and

Air Force Materiel Command, Directorate of Intellectual Property Law (AFMC LA/JAZ), 2240 B Street, Room 100, Wright-Patterson Air Force Base, OH 45433-7109.

Categories of individuals covered by the system:

All claimants or petitioners who have alleged unlicensed use of their patents by the Air Force or who have brought suit against the United States concerning patent, trademark or copyright matters related to the Department of the Air Force.

Categories of records in the system:

Letters; messages; forms; reports; contracts; bids; photographs; legal opinions; petitions; answers; discovery documents; memoranda; infringement studies; validity studies; procurement information; license agreements; other documents including but not limited to: Contract determinations, witness statements, and engineering and technical reports.

Authority for maintenance of the system:

10 U.S.C. 2386, Copyrights, patents, designs; 22 U.S.C. 2356, Foreign Assistance, acquisition; 28 U.S.C. 1498, Patent and copyright cases; 35 U.S.C. 183, Right to compensation; and Air Force Instruction 51-301, Intellectual Property—Patents, Patent Related Matters, Trademarks and Copyrights.

Purpose(s):

Purpose of the collection of information is to enable the United States and its officers and employees to investigate claims and/or defend the legal interests of the United States because of claims for compensation and litigation involving patent, trademark and copyright matters.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the U.S. Patent Office to the extent such disclosures are necessary for the processing and verification of patent applications.

To the Department of Justice for the purpose of asserting and defending patent infringement action.

The DoD ‘Blanket Routine Uses’ published at the beginning of the Air Force's compilation of systems of records notices apply to this system.

Policies and practices for storing, retrieving, accessing, retaining, and disposing of records in the system:

Storage:

Case files are maintained in file folders. Correspondence and other data generated by the agency may be maintained in computer files. Information from case files may be extracted and entered into a database used to store general information for management purposes.

Retrievability:

Retrievable by name of claimant or litigant.

Safeguards:

Records are accessed by custodian of the record system and by person(s) responsible for servicing the record system in performance of their official duties, and who are properly screened and cleared for need-to-know. Records are stored in security file containers/cabinets/safes and controlled by personnel screening. Those records in computer storage devices are protected by computer system software.

Retention and disposal:

Retained in office files for three years after end of year in which the case was closed, then retired to Washington National Records Center, Washington, DC 20409, for retention up to twelve years thereafter, then destroyed by tearing into pieces, shredding, pulping, macerating, or burning. Records in computer storage are destroyed by degaussing or overwriting.

System manager(s) and address:

Chief, Commercial Litigation Division, Directorate of Civil Law, Air Force Legal Services Agency (AFLSA/JACN), 1501 Wilson Boulevard, Suite 606, Arlington, VA 22209-2403.

Notification procedure:

Individuals seeking to determine whether information about themselves is contained in this system should address written inquiries to or visit the Air Force Legal Services Agency, Directorate of Civil Law, Commercial Litigation Division (AFLSA/JACN), 1501 Wilson Boulevard, Suite 606, Arlington, VA 22209-2403.

Record access procedures:

Individuals seeking access to information about themselves in this system should address written inquiries to or visit the Air Force Legal Services Agency, Directorate of Civil Law, Commercial Litigation Division (AFLSA/JACN), 1501 Wilson Blvd, Suite 606, Arlington, VA 22209-2403.

Contesting record procedures:

The Air Force rules for accessing records, and for contesting contents and appealing initial agency determinations are published in Air Force Instruction 37-132; 32 CFR part 806b; or may be obtained from the system manager.

Record source categories:

Information received from the individual, contractors, other government agencies, individual corporations (non-contractors) and from source documents.

Exemptions claimed for the system:

None.

[FR Doc. 02-6114 Filed 3-13-02; 8:45 am]

BILLING CODE 5001-08-P